DEPARTMENT OF ENERGY

Federal Energy Regulatory Commission

[Docket No. CP00-440-000]

Pacific Interstate Offshore Company; Application

August 18, 2000.

Take notice that on August 15, 2000, Pacific Interstate Offshore Company (PIOC), 1021 Main, Suite 2100, Houston, Texas 77002, filed in Docket No. CP00-440-000 an application pursuant to Section 7(b) of the Natural Gas Act for permission and approval to abandon all of its facilities and the services provided through those facilities, all as more fully set forth in the application on file with the Commission and open to public inspection. This filing may be viewed on the web at http://www.ferc.fed.us/online/htm (call 202-208-2222 for assistance).

PIOC states that it currently operates facilities consisting of 8.4 miles of 12-inch pipeline, extending from the Platform Habitat in the Pitas Point Field, in the Federal waters, offshore California, to a point onshore near Carpinteria, California, along with a meter, regulator station, and appurtenant facilities. It is indicated that PIOC offers transportation services for shippers under its Part 284 blanket certificate. PIOC indicates that as of September 1, 1999, Nuevo Energy Company (Nuevo) acquired all of the issued and outstanding stock of PIOC from Sempra Energy, and that currently Nuevo, which owns all of the gas produced at the platform and holds all of the surrounding leases, is PIOC's only shipper.

PIOC states that Nuevo requires a reliable and reasonably priced outlet for the gas produced at its Platform Habitat. PIOC submits that, now that Nuevo, a producer, owns the PIOC facilities, the primary function of the facilities is gathering. PIOC has submitted a primary function analysis supporting its claim that its facilities qualify as gathering facilities exempt from jurisdiction under Section 1(b) of the Natural Gas Act.

Any questions regarding the application should be directed to Fred Lindemann, Torch Operating Company, 1221 Lamar, Suite 1600, Houston, Texas 77010 at (713) 753-1368.

Any person desiring to be heard or to make any protest with reference to said application should on or before September 8, 2000, file with the Federal Energy Regulatory Commission, 888 First Street, N.E., Washington, D.C. 20426, a motion to intervene or a protest in accordance with the requirements of the Commission's Rules of Practice and Procedure (18 CFR 385.214 or 385.211) and the Regulations under the National Gas Act (18 CFR 157.10). All protests filed with the Commission will be considered by it in determining the appropriate action to be taken but will not serve to make the protestants parties to the proceedings. Any person wishing to become a party to a proceeding or to participate as a party in any hearing therein must file a motion to intervene in accordance with the Commission's Rules.

Take further notice that, pursuant to the authority contained in and subject to the jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for PIOC to appear or be represented at the hearing.

David P. Boergers,
Secretary.

[FR Doc. 00-21601 Filed 8-23-00; 8:45 am]

BILLING CODE 6717-01-M